DEPARTMENT OF ENERGY

Federal Energy Regulatory Commission

Sunshine Act Meeting Notice

The following notice of meeting is published pursuant to section 3(a) of the government in the Sunshine Act (Pub. L. 94-409), 5 U.S.C. 552b:

Agency Holding Meeting: Federal Energy Regulatory Commission.

TIME AND DATE: March 16, 2023, 10 a.m.

PLACE: Room 2C, 888 First Street NE, Washington, DC 20426.

STATUS: Open to the public.

MATTERS TO BE CONSIDERED: Agenda.

* Note—Items listed on the agenda may be deleted without further notice.

CONTACT PERSON FOR MORE INFORMATION: Kimberly D. Bose, Secretary. Telephone (202) 502-8400.

For a recorded message listing items stricken from or added to the meeting, call (202) 502-8627.

This is a list of matters to be considered by the Commission. It does not include a listing of all documents relevant to the items on the agenda. All public documents, however, may be viewed on line at the Commission's website at https://elibrary.ferc.gov/eLibrary/search using the eLibrary link.

1099th—Meeting
[Open Meeting; March 16, 2023, 10:00 a.m.]
Item No. | Docket No. | Company
Administrative
A-1 | AD23-1-000 | Agency Administrative Matters.
A-2 | AD23-2-000 | Customer Matters, Reliability, Security and Market Operations.
A-3 | AD06-3-000 | Market Update.
Electric
E-1 | RD23-3-000 | North American Electric Relaibility Corporation.
E-2 | ER21-2459-001 | Tenaska Power Services Co.
E-3 | EL23-31-000 | Commonwealth Edison Company.
E-4 | EL22-39-000 | Public Service Company of Colorado.
E-5 | EL22-37-000 | Idaho Power Company.
E-6 | ES23-23-000 | PJM Interconnection, L.L.C.
E-7 | EL15-3-005 E15-704-027 | City and County of San Francisco v. Pacific Gas and Electric Company. Pacific Gas and Electric Company.
E-8 | EL22-56-001 | Iowa Coalition for Affordable Transmission v. ITC Midwest, LLC.
E-9 | EL23-8-000 | Cubit Power One, Inc. v. Consolidated Edison Company of New York, Inc.
E-10 | ER20-2584-001 | Transource Maryland, LLC, American Electric Power Service Corporation, and PJM Interconnection, L.L.C.
E-11 | ER22-2377-000 | Black Hills Colorado Electric, LLC.
E-12 | EL23-14-000 | Alternative Transmission Inc.
Gas
G-1 | RP22-1105-000 | Anadarko US Offshore LLC, Murphy Exploration & Production Company—USA, Eni Petroleum US LLC, and INPEX Americas, Inc.
G-2 | RP21-1143-001 | Transcontinental Gas Pipe Line Company, LLC.
Hydro
H-1 | P-2322-073 | Brookfield White Pine Hydro LLC.
Certificates
C-1 | CP23-11-000 | Florida Gas Transmission Company, LLC.
C-2 | CP21-498-000 | Columbia Gas Transmission, LLC.
C-3 | CP21-113-000 | Alliance Pipeline L.P.
C-4 | CP22-41-000 | Cameron LNG, LLC.
C-5 | OMITTED
C-6 | CP21-94-001 | Transcontinental Gas Pipe Line Company, LLC.

A free webcast of this event is available through the Commission's website. Anyone with internet access who desires to view this event can do so by navigating to www.ferc.gov's Calendar of Events and locating this event in the Calendar. The Federal Energy Regulatory Commission provides technical support for the free webcasts. Please call (202) 502-8680 or email customer@ferc.gov if you have any questions.

Immediately following the conclusion of the Commission Meeting, a press briefing will be held in the Commission Meeting Room. Members of the public may view this briefing in the designated overflow room. This statement is intended to notify the public that the press briefings that follow Commission meetings may now be viewed remotely at Commission headquarters but will not be telecast.

Issued: March 9, 2023.
Debbie-Anne A. Reese,
Deputy Secretary.

[FR Doc. 2023-05288 Filed 3-10-23; 11:15 am]

BILLING CODE 6717-01-P